DEPARTMENT OF TRANSPORTATION

Office of the Secretary

14 CFR Part 234

Reporting Requirements for Aircraft Gate Returns

AGENCY: Office of the Secretary, DOT.

ACTION: Notice of public meeting.

SUMMARY: The U.S. Department of Transportation (DOT) is hosting a public meeting to discuss the reporting of on-time aviation data, specifically the reporting of gate-departure time when an aircraft returns to the gate after an initial gate departure, but before the wheels-off time, and the need to report gate-departure time when the flight is ultimately cancelled.

DATES: The meeting will be held June 20, 2007, from 1 p.m. to 4 p.m.

ADDRESSES: The meeting will be held at the new DOT headquarters building at 1200 New Jersey Avenue, SW., Washington, DC 20590. The room number will be announced at a later date. Persons attending the public meeting must pass through the building security; therefore, we are requesting that you register for attendance by e-mailing or calling Ms. Sharon Herman at Sharon.herman@dot.gov or (202) 366-9059.

FOR FURTHER INFORMATION CONTACT: Bernie Stankus, Office of Airline Information, RTS-42, Research and Innovative Technology Administration, Bureau of Transportation Statistics, telephone number (202) 366-4387, fax number (202) 366-3383 or e-mail bernard.stankus@dot.gov.

SUPPLEMENTARY INFORMATION:

Background

The long tarmac delays that occurred in late 2006 and early 2007 focused public attention on the DOT's Part 234 Airline Service Quality Performance Reports. In reviewing taxi-out times, it was brought to our attention that the air carriers were inconsistent in reporting gate-departure times when an aircraft returned to the gate. Some carriers were reporting the initial gate departure time while others were reporting the “second” gate departure time. There are advantages and disadvantages with both methods.

By reporting the first gate-departure time, the DOT knows the time interval from when the aircraft was ready to depart and when the aircraft actually departed the airport (wheels-off time). However, many times the air carrier is credited with an on-time departure, when in reality the aircraft returned to the gate only to depart well after the scheduled departure time. Also, the taxi-out time is miscalculated, as the time that the aircraft was parked at the gate awaiting re-boarding is counted in the taxi out time.

Reporting the second gate-departure time disguises inconveniences that the passengers endured by making it appear that they were on the aircraft for a much shorter duration before wheels-off time. Some have indicated that the taxi-out time for carriers reporting the second gate departure time is a more accurate assessment of taxi-out times.

During recent snowstorms in the northeast, many flights departed the boarding gates only to spend many hours on the tarmac being de-iced and waiting for improved weather conditions. When the weather deteriorated, flights were cancelled. Historically, carriers have not reported gate-departure times when the flight is later cancelled. During this public meeting, the Department will attempt to clarify the reporting requirements for aircraft that return to departure gates.

Issued in Washington, DC, on May 8, 2007.
Donald W. Bright,
Assistant Director, Airline Information, Bureau of Transportation Statistics.

[FR Doc. E7-9209 Filed 5-16-07; 8:45 am]

BILLING CODE 4910-HY-P